DEPARTMENT OF TRANSPORTATION

Coast Guard

33 CFR Part 117

[CGD07-01-143]

RIN 2115-AE47

Drawbridge Operation Regulations; Atlantic Intracoastal Waterway, Mile 1069.4 at Dania Beach, Broward County, FL

AGENCY: Coast Guard, DOT.

ACTION: Temporary final rule.

SUMMARY: The Coast Guard is temporarily changing the operating regulations of the Dania Beach Boulevard bridge across the Atlantic Intracoastal Waterway, mile 1069.4 at Dania Beach, Florida, from July 31, 2002 to November 15, 2002. This temporary rule allows this bridge to only open a single leaf of the bridge on a regular schedule. Double leaf openings will be provided during certain times. This action is necessary to facilitate repairs to the bridge.

DATES: This rule is effective from 8:01 p.m. on July 31, 2002 until 6 p.m. on November 15, 2002.

ADDRESSES: Comments and material received from the public as well as documents indicated in this preamble as being available in the docket are part of docket [CGD07-01-143] and are available for inspection or copying at room 432, Seventh Coast Guard District, Bridge Branch, 909 S.E. 1st Avenue, Miami, Florida, 33130-3050, between 7:30 a.m. and 4 p.m., Monday through Friday, except Federal holidays.

FOR FURTHER INFORMATION CONTACT: Mr. Michael Lieberum, Project Officer, Seventh Coast Guard District, Bridge Branch, telephone 305-415-6744.

SUPPLEMENTARY INFORMATION:

Regulatory Information

On February 21, 2002 we published a notice of proposed rulemaking (NPRM) entitled “Drawbridge Operation Regulations: Dania Beach Boulevard Drawbridge, Atlantic Intracoastal Waterway, Florida” in the Federal Register (67 FR 7991).

On April 16, 2002, PCL Constructors, who were hired by Florida Department of Transportation, notified the Coast Guard that due to a safety issue involving the welding of deck plates, the bridge should be put on a single leaf opening schedule as soon as possible, and requested this be done to facilitate repairs. The Coast Guard met with Florida Department of Transportation representatives on April 22, 2002 to discuss this request. After this meeting the Coast Guard determined that to best facilitate the needs of navigation and bridge repair, the bridge would be put on a 20-minute, single leaf opening schedule with double leaf openings available with 2 hours advance notice to the bridge tender. On June 13, 2002 the Coast Guard published a notice of temporary deviation from regulations entitled “Drawbridge Operation Regulations; Atlantic Intracoastal Waterway, Mile 1069.4 at Dania Beach, Broward County, FL” in the Federal Register (67 FR 40606). This deviation allows the bridge operator to only open a single leaf of the bridge from June 4, 2002 until July 31, 2002 with double leaf openings available with 2 hours advanced notice to the bridge tender.

Background and Purpose

The Dania Beach Boulevard bridge, mile 1069.4 at Dania Beach, Broward County, Florida, has a vertical clearance of 22 feet at mean high water and a horizontal clearance of 45 feet between fenders. The existing operating regulations in 33 CFR 117 require the bridge to open on signal.

On November 7, 2001, the Coast Guard met with the Florida Department of Transportation representative, URS to discuss altering the Dania Beach Boulevard bridge regulations to facilitate a major rehabilitation of the bridge. The representatives stated that due to the comprehensive nature of the repairs, which includes rebalancing the bascules, they would only be able to open a single span of the bridge for a period of 45 days during the months of September and October. URS requested the bridge be allowed to only open a single leaf of the bridge on the quarter hour and three-quarter hour during these 45 days. Double leaf openings would not be available during this time period because one span will be inoperable. Since the notice of proposed rulemaking was published, URS determined that the 45 days will begin on September 5, 2002 and end on October 19, 2002.

On April 16, 2002, PCL Contractors notified the Coast Guard that the work on the bridge bascules had started and due to safety issues involving welding deck plates, the current on-demand bridge schedule raised safety concerns and impeded their work. As a result, they requested a 20-minute, single leaf, opening schedule. On April 22, 2002, the Coast Guard contacted URS to discuss this request. As a result of that meeting, the Coast Guard determined that operational and safety concerns justified a 20-minute, single leaf, opening schedule. Double-leaf openings will be available with 2 hours advance notice to the bridge tender. This action is necessary to facilitate worker safety during repairs to the bridge without significantly hindering navigation. This schedule will run from July 31, 2002 until September 5, 2002 and then again from October 19, 2002 until November 15, 2002.

Although this schedule will run for a longer period of time than that proposed in the notice of proposed rulemaking, safety issues that were only discovered after work commenced justified this additional single leaf schedule. The schedule for the additional time still provides for single leaf openings 3 times an hour and provides for double leaf openings with 2 hours advance notice.

Discussion of Comments and Changes

We received 2 written comments and one verbal comment to the notice of proposed rulemaking. The Florida Department of State found that the project would not affect historic properties. The National Oceanic and Atmospheric Administration stated that any adverse effects that may occur on the marine and anadromous fishery resources and essential fish habitat would be minimal so did not have any comments. A representative from Marine Industries of Fort Lauderdale verbally told the Seventh Coast Guard District Bridge Branch staff that he did not oppose the proposed bridge operating schedule. The Coast Guard has not received any comments on the notice of temporary deviation from regulations.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979). The Coast Guard expects the economic impact of this rule to be so minimal that a full Regulatory Evaluation under paragraph 10e of the regulatory policies and procedures of DOT is unnecessary because this rule only temporarily modifies the bridge's operating schedule and still provides for regular single leaf openings.

Small Entities

Under the Regulatory Flexibility Act (5 U.S.C. 601-612), the Coast Guard has considered whether this rule will have a significant economic effect upon a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities because this rule only temporarily modifies the bridge's operating schedule and still provides for regular single leaf openings. We are only aware of one vessel that will be unable to pass through the bridge when double leaf openings are unavailable from September 5, 2002 until October 14, 2002. The vessel operator has agreed to moor on the other side of the bridge during this period.

Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please consult the person listed under FOR FURTHER INFORMATION CONTACT. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Although this rule would not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Execute Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard has considered the environmental impact of this action and has concluded that under figure 2-1, paragraph 32(e) of Commandant Instruction M16475.1D, this rule is categorically excluded from further environmental documentation. A “Categorical Exclusion Determination” is available in the docket we have indicated under ADDRESSES.

List of Subjects in 33 CFR Part 117

Bridges.

For the reasons discussed in the preamble, the Coast Guard amends 33 CFR part 117 as follows:

PART 117—DRAWBRIDGE OPERATION REGULATIONS

1. The authority citation for Part 117 continues to read as follows:

Authority: 33 U.S.C. 499; 49 CFR 1.46; 33 CFR 1.05-1(g); Section 117.255 also issued under authority of Pub. L. 102-587, 106 Stat. 5039.

2. A new temporary § 117.261(rr) is added to read as follows:

§ 117.261 Atlantic Intracoastal Waterway from St. Marys River to Key Largo.

* * * * *

(rr) Dania Beach Boulevard bridge, mile 1069.4 at Dania Beach, FL. (1) The Dania Beach Boulevard bridge, mile 1069.4 at Dania Beach, FL need only open a single leaf of the bridge on the hour, 20-minutes after the hour, and 40-minutes after the hour from 8:01 p.m. on July 31, 2002 until 12:01 a.m. on September 5, 2002 and from 11:59 p.m. on October 19, 2002 until 6 p.m. on November 15, 2002. A double-leaf opening will be available if 2 hours advance notice is provided to the bridge tender.

(2) From 12:02 a.m. on September 5, 2002 until 11:58 p.m. on October 19, 2002, the Dania Beach Boulevard bridge, mile 1069.4 at Dania Beach, FL need only open a single leaf of the bridge on the quarter hour and three-quarter hour.

Dated: June 26, 2002.
J.W. Stark,
Captain, Coast Guard, Acting Commander Seventh Coast Guard District.

[FR Doc. 02-16754 Filed 7-2-02; 8:45 am]

BILLING CODE 4910-15-P